DEPARTMENT OF DEFENSE

Office of the Secretary

[Transmittal No. 23-59]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-59, Policy Justification, and Sensitivity of Technology.

Dated: October 24, 2024.
Aaron T. Siegel,
Alternate OSD Federal Register Liaison Officer, Department of Defense.

BILLING CODE 6001-FR-P

BILLING CODE 6001-FR-C

Transmittal No. 23-59

Notice of Proposed Issuance of Letter of Offer Pursuant to Section 36(b)(1) of the Arms Export Control Act, as Amended

(i) Prospective Purchaser: Government of Australia

(ii) Total Estimated Value:

Major Defense Equipment * | $902 million
Other | $ 73 million
TOTAL | $975 million

(iii) Description and Quantity or Quantities of Articles or Services under Consideration for Purchase:

Major Defense Equipment (MDE):

Up to twenty-two (22) M142 High Mobility Artillery Rocket Systems (HIMARS)

Sixty (60) M30A1 Guided Multiple Launch Rocket System (GMLRS) Alternative Warhead (AW) Pods with Insensitive Munitions Propulsion System (IMPS)

Forty (40) M31A1 GMLRS Unitary (GMLRS-U) High Explosive (HE) Pods with IMPS

Sixty-six (66) M30A2 Extended Range (ER)-GMLRS AW Pods

Twenty-four (24) M31A2 ER GMLRS Unitary (HE) Pods

Non-MDE:

Also included are Reduced Range Practice Rocket (RRPR) Pods; intercom systems to support the HIMARS Launcher; M1084A2 HIMARS Re-Supply Vehicles (RSV); trailers; 9300-SL60TN Forklift, Side Loader; radio/communication mounts; machine gun mounts; wheel guards; ruggedized laptops; training; training equipment; publications for HIMARS and its munitions and spares; services; other support equipment; and other related elements of program and logistic support.

(iv) Military Department: Army (AT-B-UNP)

(v) Prior Related Cases, if any: AT-B-UMJ, AT-B-UMK, AT-B-UKI

(vi) Sales Commission, Fee, etc., Paid, Offered, or Agreed to be Paid: None known at this time

(vii) Sensitivity of Technology Contained in the Defense Article or Defense Services Proposed to be Sold: See Attached Annex

(viii) Date Report Delivered to Congress: August 18, 2023

* As defined in Section 47(6) of the Arms Export Control Act.

Policy Justification

Australia—M142 High Mobility Artillery Rocket Systems (HIMARS)

The Government of Australia has requested to buy up to twenty-two (22) M142 High Mobility Artillery Rocket Systems (HIMARS); sixty (60) M30A1 Guided Multiple Launch Rocket System (GMLRS) Alternative Warhead (AW) Pods with Insensitive Munitions Propulsion System (IMPS); forty (40) M31A1 GMLRS Unitary (GMLRS-U) High Explosive (HE) Pods with IMPS; sixty-six (66) M30A2 Extended Range (ER)-GMLRS AW Pods; and twenty-four (24) M31A2 ER GMLRS Unitary (HE) Pods. Also included are Reduced Range Practice Rocket (RRPR) Pods; intercom systems to support the HIMARS Launcher; M1084A2 HIMARS Re-Supply Vehicles (RSV); trailers; 9300-SL60TN Forklift, Side Loader; radio/communication mounts; machine gun mounts; wheel guards; ruggedized laptops; training; training equipment; publications for HIMARS and its munitions, and spares; services; other support equipment; and other related elements of program and logistic support. The estimated total program cost is $975 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to meet current and future threats and will enhance interoperability with U.S. forces and other allied forces. Australia will use the capability to strengthen its homeland defense and provide greater security for its critical infrastructure. Australia will have no difficulty absorbing this equipment into its armed forces.

The proposed sale of this equipment and support will not alter the basic military balance in the region.

The principal contractors will be Lockheed Martin, Grand Prairie, TX; L3Harris Corporation, Melbourne, FL; Leonardo DRS, Arlington, VA; and Oshkosh Corporation, Stafford, VA. There are no known offset agreements in connection with this potential sale.

Implementation of this proposed sale will not require the assignment of U.S. Government or contractor representatives to Australia.

There will be no adverse impact on U.S. defense readiness as a result of this proposed sale.

Transmittal No. 23-59

Notice of Proposed Issuance of Letter of Offer Pursuant to Section 36(b)(1) of the Arms Export Control Act

Annex

Item No. vii

(vii) Sensitivity of Technology:

1. The M142 High Mobility Artillery Rocket System (HIMARS) is a wheeled launcher mounted on a 5-ton Family of Medium Tactical Vehicles truck chassis and is transportable by C-130. HIMARS is the modern Army-fielded version of the Multiple Launch Rocket System (MLRS) M270 launcher and can fire all the MLRS Family of Munitions (FOM), including Guided Multiple Launch Rocket System (GMLRS) variants and the Army Tactical Missile System (ATACMS). Utilizing the MLRS FOM, the HIMARS can engage targets between 15 and 300 kilometers with GPS-aided precision accuracy.

2. The Guided Multiple Launch Rocket System (GMLRS) M31A2 Unitary is the Army's primary munition for units fielding the M142 HIMARS and M270Al Multiple Launcher Rocket System (MLRS) Launchers. The M31 Unitary is a solid propellant artillery rocket that uses Global Positioning System/Precise Positioning Service (GPS/PPS)-aided inertial guidance to deliver a single high-explosive blast fragmentation warhead accurately and quickly to targets at ranges from 15-70 kilometers. The rockets are fired from a launch pod container that also serves as the storage and transportation container for the rockets. Each rocket pod holds six (6) total rockets.

3. The M30A2 GMLRS Alternative Warhead shares a greater than 90% commonality with the M31A1 Unitary. The primary difference between the GMLRS-U and GMLRS-AW is the replacement of the Unitary's high explosive warhead with a 200-pound fragmentation warhead of pre-formed tungsten penetrators which is optimized for effectiveness against large area and imprecisely located targets. The munitions otherwise share a common motor, GPS/PPS-aided inertial guidance and control system, fusing mechanism, multi-option height of burst capability, and effective range of 15-70km.

4. The Extended Range (ER) GMLRS provides a persistent, responsive, all-weather, rapidly deployed, long-range, surface-to-surface, area- and point-precision strike capability. The XM403 Alternative Warhead (AW) carries a 200-pound fragmentation assembly filled with high explosives which, upon detonation, accelerates two layers of preformed penetrators optimized for effectiveness against large area and imprecisely located targets. The XM404 Unitary variant is a 200-pound class unitary with a steel blast-fragmentation case, designed for low collateral damage against point targets. The ER GMLRS maintains the accuracy and effectiveness demonstrated by the baseline GMLRS out to a maximum range of 150 km while also including a new Height of Burst (HOB) capability.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Australia can provide the same degree of protection for the sensitive technology being released as the U.S. Government. This sale is necessary in furtherance of the U.S. foreign policy and national security objectives outlined in the Policy Justification.

8. All defense articles and services listed in this transmittal are authorized for release and export to Australia.

[FR Doc. 2024-25115 Filed 10-28-24; 8:45 am]

BILLING CODE 6001-FR-P